GENERAL SERVICES ADMINISTRATION

[OMB Control No. 3090-00XX]

Office of Citizen Services; Information Collection; Online Citizen Survey

AGENCY: Office of Citizen Services (OCS), General Services Administration (GSA).

ACTION: Notice of request for comments regarding a new OMB clearance.

SUMMARY: Under the provisions of the Paperwork Reduction Act of 1995 (44 U.S.C. Chapter 35), the General Services Administration will be submitting to the Office of Management and Budget (OMB) a request to review and approve a new information collection requirement regarding an Online Citizen Survey.

Public comments are particularly invited on: Whether this collection of information is necessary and whether it will have practical utility; whether our estimate of the public burden of this collection of information is accurate and based on valid assumptions and methodology; and ways to enhance the quality, utility, and clarity of the information to be collected.

DATES: Submit comments on or before: March 23, 2009.

FOR FURTHER INFORMATION CONTACT: Ms. Karen Trebon, Program Analyst, GSA OCS, 1800 F Street, NW., G 132, Washington, DC 20405, (202) 501-1802, or Karen.trebon@gsa.gov. Please cite OMB Control No. 3090-XXXX, Online Citizen Survey.

ADDRESSES: Submit comments regarding this burden estimate or any other aspect of this collection of information, including suggestions for reducing this burden to the Regulatory Secretariat (VPR), General Services Administration, Room 4041, 1800 F Street, NW., Washington, DC 20405 and a copy to Ms. Karen Trebon, Program Analyst, GSA OCS, 1800 F Street, NW., G 132, Washington, DC 20405. Please cite OMB Control No. 3090-00XX, Online Citizen Survey, in all correspondence.

SUPPLEMENTARY INFORMATION:

A. Purpose

GSA's OCS currently provides service to citizens through the Internet at USA.gov, GobiernoUSA.gov and a family of consumer Web sites, through the phone at the National Contact Center 1-800-FED-INFO (1-800-333-4636), and through the distribution of print publications from the distribution center in Pueblo, CO. In addition, OCS communicates with the public through e-mail, an online blog at http://www.govgab.gov and online personal assistance.

Additional market research is needed on a continual basis to develop customer service strategies and determine the future directions for our multi-channel efforts at OCS and for those customer service activities in other government agencies. This is especially true in the current Web 2.0 environment where citizens, particularly in Generation X and Y, have different communication and collaboration styles and needs. Since citizens expect their government experience to be on par with those they have with the private sector, it is crucial to determine how best the government can serve citizens in a world with rapidly changing technologies. Surveys will include questions regarding communication channel preferences for how citizens contact government, service level expectations and interests in social media and Web 2.0 applications. OCS will share this information and collaborate with all government agencies that are working to improve citizen engagement and customer service.

OCS will work with a market research vendor that has an established panel of Americans who have agreed to take surveys for various clients. Therefore, OCS will not be collecting or storing any personally identifiable information. The vendor will also provide support in: (a) The development of questions; (b) building, programming and disseminating the online surveys; and (c) analyzing the responses. OCS will work with the contractor to ensure that the citizens recruited and surveyed represent a statistically valid demographic cross section of the American public.

B. Annual Reporting Burden

Respondents: 3,500.

Responses per respondent: .25.

Annual Responses: 14,000.

Hours per response: .33.

Total Burden hours: 4,620.

Obtaining copies of proposals: Requesters may obtain a copy of the information collection documents from the General Services Administration, Regulatory Secretariat (VPR), 1800 F Street, NW., Room 4041, Washington, DC 20405, telephone (202) 501-4755. Please cite OMB Control No. 3090-00XX, Online Citizen Survey, in all correspondence.

Dated: January 12, 2009.
Casey Coleman,
Chief Information Officer.

[FR Doc. E9-1060 Filed 1-16-09; 8:45 am]

BILLING CODE 6820-34-P